GENERAL SERVICES ADMINISTRATION

41 CFR Chapters 101, 102, 105, 300, 301, 302, 303, and 304

48 CFR Chapter 5

Unified Agenda of Federal Regulatory and Deregulatory Actions

AGENCY: General Services Administration (GSA).

ACTION: Semiannual Regulatory Agenda.

SUMMARY: This agenda announces the proposed regulatory actions that GSA plans for the next 12 months and those that were completed since the fall 2024 edition. This agenda was developed under the guidelines of Executive Orders 12866, “Regulatory Planning and Review,” Executive Order 13563, Improving Regulation and Regulatory Review,” Executive Order 14219, “Ensuring Lawful Governance and Implementing the President's `Department of Government Efficiency' Deregulatory Initiative,” and Executive Order 14192, “Unleashing Prosperity Through Deregulation.” GSA's purpose in publishing this agenda is to allow interested persons an opportunity to participate in the rulemaking process. GSA also invites interested persons to recommend existing significant regulations for review to determine whether they should be modified or rescinded. The public may provide comments on rules via http://www.regulations.gov.

The Unified Agenda, including previous versions, is available at www.reginfo.gov. Because publication in the Federal Register is mandated for the regulatory flexibility agendas required by the Regulatory Flexibility Act (5 U.S.C. 602), GSA's printed agenda entries include only:

(1) Rules that are in the agency's regulatory flexibility agenda, in accordance with the Regulatory Flexibility Act, because they are likely to have a significant economic impact on a substantial number of small entities; and

(2) Any rules that the agency has identified for periodic review under section 610 of the Regulatory Flexibility Act.

Printing of these entries is limited to fields that contain information required by the Regulatory Flexibility Act's agenda requirements. Additional information on these entries is available in the Unified Agenda. In addition, for fall editions of the agenda, the entire Regulatory Plan will continue to be printed in the Federal Register, as in past years, including GSA's regulatory plan.

FOR FURTHER INFORMATION CONTACT: William F. Clark, Director, General Services Administration, Office of Government-wide Acquisition Policy, Office of Acquisition Policy, Office of Government-wide Policy, 1800 F Street, Washington, DC 20405-0001, 202-219-1813 or by email at william.clark@gsa.gov.

Larry Allen,
Associate Administrator, Office of Government-wide Policy.

General Services Administration—Long-Term Actions
Sequence No. | Title | Regulation Identifier No.
168 | General Services Administration Acquisition Regulation (GSAR); GSAR Case 2020-G534, Extension of Certain Telecommunication Prohibitions to Lease Acquisitions | 3090-AK29
169 | General Services Administration Acquisition Regulation (GSAR); GSAR Case 2021-G522, Contract Requirements for High-Security Leased Space | 3090-AK39
170 | General Services Administration Acquisition Regulation (GSAR); GSAR 2021-G527, Immediate and Highest-Level Owner for High-Security Leased Space | 3090-AK44

General Services Administration—Completed Actions
Sequence No. | Title | Regulation Identifier No.
171 | General Services Acquisition Regulation (GSAR); GSAR Case 2021-G505, Amending Prescriptions for Including FAR Provisions and Clauses in Lease Procurements | 3090-AK36
172 | General Services Administration Acquisition Regulations (GSAR); GSAR 2021-G520, Economic Price Adjustment for Deregulated Electric Supplies | 3090-AK48
173 | General Services Administration Acquisition Regulation (GSAR); GSAR Case 2021-G530, Labor Requirements for Lease Acquisitions | 3090-AK51
174 | General Services Administration Acquisition Regulation (GSAR): GSAR Case 2023-G507, Additional Transactional Data Reporting Elements for Non-Federal Supply Schedule contracts. | 3090-AK71
175 | General Services Administration Acquisition Regulation (GSAR); GSAR Case 2025-G501 Reducing Per- and Polyfluoroalkyl Substances (PFAS) Through the Federal Supply Schedule | 3090-AK85
176 | General Services Administration Acquisition Regulation (GSAR); GSAR Case 2025-G502 Cancellation Criteria for Indefinite Delivery, Indefinite Quantity Multiple-Award Contracts (Non-Schedules) | 3090-AK86
177 | General Services Administration Acquisition Regulation (GSAR); GSAR Case 2025-G503, Multiple Award Schedule Contractor Performance Information | 3090-AK87
178 | General Services Administration Regulation (GSAR); GSAR Case 2025-G504, Incorporate Lease Class Deviations | 3090-AK90
179 | FPMR 2025-01, Program Fraud Civil Remedies Act of 1986, Civil Monetary Penalties Inflation Adjustment | 3090-AK89

General Services Administration (GSA) | Long-Term Actions

Office of Acquisition Policy

168. GENERAL SERVICES ADMINISTRATION ACQUISITION REGULATION (GSAR); GSAR CASE 2020-G534, EXTENSION OF CERTAIN TELECOMMUNICATION PROHIBITIONS TO LEASE ACQUISITIONS [3090-AK29]

Legal Authority: 40 U.S.C. 121(c); 5 U.S.C. 801; Pub. L. 115-232 sec. 889

Abstract: The General Services Administration (GSA) is proposing to amend the General Services Administration Acquisition Regulation (GSAR) to prohibit procurement from certain covered entities using covered equipment and services in lease acquisitions pursuant to section 889 of the National Defense Authorization Act (NDAA) for Fiscal Year (FY) 2019. The rule will implement the section 889 requirements in lease acquisitions by requiring inclusion of the related Federal Acquisition Regulation (FAR) provisions and clauses. This rule supports the national security priority.

Timetable:

Action | Date | FR Cite
NPRM | 07/00/26
NPRM Comment Period End | 09/00/26

Regulatory Flexibility Analysis Required: Yes

Agency Contact: Thomas O'Linn, Senior Procurement Policy Analyst, GSA Acquisition Policy Division, General Services Administration, 1800 F Street NW, Washington, DC 20405

Phone: 202 445-0390

Email: thomas.olinn@gsa.gov

RIN: 3090-AK29

169. GENERAL SERVICES ADMINISTRATION ACQUISITION REGULATION (GSAR); GSAR CASE 2021-G522, CONTRACT REQUIREMENTS FOR HIGH-SECURITY LEASED SPACE [3090-AK39]

Legal Authority: 40 U.S.C. 121(c); Pub. L. 116-276

Abstract: The General Services Administration (GSA) is amending the General Services Administration Acquisition Regulation (GSAR) to incorporate contractor disclosure requirements and access limitations for high-security leased space pursuant to the Secure Federal Leases Act. Covered entities are required to identify whether the beneficial owner of a high-security leased space, including an entity involved in the financing thereof, is a foreign person or entity when first submitting a proposal and annually thereafter. This rule supports the national security priority.

Timetable:

Action | Date | FR Cite
NPRM | 12/27/21 | 86 FR 73219
NPRM Comment Period End | 02/25/22
Final Rule | 07/00/26

Regulatory Flexibility Analysis Required: Yes

Agency Contact: Thomas O'Linn, Senior Procurement Policy Analyst, GSA Acquisition Policy Division, General Services Administration, 1800 F Street NW, Washington, DC 20405

Phone: 202 445-0390

Email: thomas.olinn@gsa.gov

RIN: 3090-AK39

170. GENERAL SERVICES ADMINISTRATION ACQUISITION REGULATION (GSAR); GSAR 2021-G527, IMMEDIATE AND HIGHEST-LEVEL OWNER FOR HIGH-SECURITY LEASED SPACE [3090-AK44]

Legal Authority: 40 U.S.C. 121(c)

Abstract: GSA is amending the General Services Administration Acquisition Regulation (GSAR) to implement certain requirements outlined in the Secure Federal LEASEs Act (Pub. L. 116-276). The Act addresses the risks of foreign ownership of Government-leased real estate and requires the disclosure of ownership information for high-security space leased to accommodate a Federal agency. This rule supports the national security priority.

Timetable:

Action | Date | FR Cite
Interim Final Rule Effective | 06/30/21
Interim Final Rule | 07/01/21 | 86 FR 34966
Interim Final Rule Comment Period End | 08/30/21
Final Rule | 07/00/26

Regulatory Flexibility Analysis Required: Yes

Agency Contact: Thomas O'Linn, Senior Procurement Policy Analyst, GSA Acquisition Policy Division, General Services Administration, 1800 F Street NW, Washington, DC 20405

Phone: 202 445-0390

Email: thomas.olinn@gsa.gov

RIN: 3090-AK44

General Services Administration (GSA) | Completed Actions

171. GENERAL SERVICES ACQUISITION REGULATION (GSAR); GSAR CASE 2021-G505, AMENDING PRESCRIPTIONS FOR INCLUDING FAR PROVISIONS AND CLAUSES IN LEASE PROCUREMENTS [3090-AK36]

Legal Authority: 40 U.S.C. 121(c)

Abstract: This rule is being withdrawn.

Completed:

Reason | Date | FR Cite
Withdrawn | 04/14/25

Regulatory Flexibility Analysis Required: Yes

Agency Contact: Amy Lara

Phone: 816 926-7172

Email: amy.lara@gsa.gov

RIN: 3090-AK36

172. GENERAL SERVICES ADMINISTRATION ACQUISITION REGULATIONS (GSAR); GSAR 2021-G520, ECONOMIC PRICE ADJUSTMENT FOR DEREGULATED ELECTRIC SUPPLIES [3090-AK48]

Legal Authority: 40 U.S.C. 121(c)

Abstract: This rule has been withdrawn.

Completed:

Reason | Date | FR Cite
Withdrawn | 04/07/25

Regulatory Flexibility Analysis Required: Yes

Agency Contact: Thomas O'Linn

Phone: 202 445-0390

Email: thomas.olinn@gsa.gov

RIN: 3090-AK48

173. GENERAL SERVICES ADMINISTRATION ACQUISITION REGULATION (GSAR); GSAR CASE 2021-G530, LABOR REQUIREMENTS FOR LEASE ACQUISITIONS [3090-AK51]

Legal Authority: 40 U.S.C. 121(c)

Abstract: This rule has been withdrawn.

Completed:

Reason | Date | FR Cite
NPRM | 11/06/24 | 89 FR 87993
Withdrawn | 04/07/25

Regulatory Flexibility Analysis Required: Yes

Agency Contact: Johnnie McDowell

Phone: 202 718-6112

Email: johnnie.mcdowell@gsa.gov

RIN: 3090-AK51

174. GENERAL SERVICES ADMINISTRATION ACQUISITION REGULATION (GSAR): GSAR CASE 2023-G507, ADDITIONAL TRANSACTIONAL DATA REPORTING ELEMENTS FOR NON-FEDERAL SUPPLY SCHEDULE CONTRACTS [3090-AK71]

Legal Authority: 40 U.S.C. 121(c)

Abstract: This rule has been withdrawn.

Completed:

Reason | Date | FR Cite
Withdrawn | 04/07/25

Regulatory Flexibility Analysis Required: Yes

Agency Contact: Thomas O'Linn

Phone: 202 445-0390

Email: thomas.olinn@gsa.gov

RIN: 3090-AK71

175. GENERAL SERVICES ADMINISTRATION ACQUISITION REGULATION (GSAR); GSAR CASE 2025-G501 REDUCING PER- AND POLYFLUOROALKYL SUBSTANCES (PFAS) THROUGH THE FEDERAL SUPPLY SCHEDULE [3090-AK85]

Legal Authority: 40 U.S.C. 121(c)

Abstract: This rule has been withdrawn.

Completed:

Reason | Date | FR Cite
Withdrawn | 04/07/25

Regulatory Flexibility Analysis Required: Yes

Agency Contact: Adina Torberntsson

Phone: 303 236-2677

Email: adina.torberntsson@gsa.gov

RIN: 3090-AK85

176. GENERAL SERVICES ADMINISTRATION ACQUISITION REGULATION (GSAR); GSAR CASE 2025-G502 CANCELLATION CRITERIA FOR INDEFINITE DELIVERY, INDEFINITE QUANTITY MULTIPLE-AWARD CONTRACTS (NON-SCHEDULES) [3090-AK86]

Legal Authority: 40 U.S.C. 121(c)

Abstract: This rule has been withdrawn.

Completed:

Reason | Date | FR Cite
Withdrawn | 04/07/25

Regulatory Flexibility Analysis Required: Yes

Agency Contact: Vernita Misidor

Phone: 202 357-9681

Email: vernita.misidor@gsa.gov

RIN: 3090-AK86

177. GENERAL SERVICES ADMINISTRATION ACQUISITION REGULATION (GSAR); GSAR CASE 2025-G503, MULTIPLE AWARD SCHEDULE CONTRACTOR PERFORMANCE INFORMATION [3090-AK87]

Legal Authority: 40 U.S.C. 121(c)

Abstract: This rule has been withdrawn.

Completed:

Reason | Date | FR Cite
Withdrawn | 04/07/25

Regulatory Flexibility Analysis Required: Yes

Agency Contact: Thomas O'Linn

Phone: 202 445-0390

Email: thomas.olinn@gsa.gov

RIN: 3090-AK87

178. GENERAL SERVICES ADMINISTRATION REGULATION (GSAR); GSAR CASE 2025-G504, INCORPORATE LEASE CLASS DEVIATIONS [3090-AK90]

Legal Authority: 40 U.S.C. 121(c)

Abstract: This rule has been withdrawn.

Completed:

Reason | Date | FR Cite
Withdrawn | 04/14/25

Regulatory Flexibility Analysis Required: Yes

Agency Contact: Amy Lara

Phone: 816 926-7172

Email: amy.lara@gsa.gov

RIN: 3090-AK90

179. FPMR 2025-01, PROGRAM FRAUD CIVIL REMEDIES ACT OF 1986, CIVIL MONETARY PENALTIES INFLATION ADJUSTMENT [3090-AK89]

Legal Authority: 40 U.S.C. 121(c); 31 U.S.C. 3809

Abstract: This rule has been withdrawn.

Completed:

Reason | Date | FR Cite
Withdrawn | 04/07/25

Regulatory Flexibility Analysis Required: Yes

Agency Contact: Aaron Pound

Phone: 202 501-1146

Email: aaron.pound@gsa.gov

RIN: 3090-AK89

[FR Doc. 2025-18334 Filed 9-19-25; 8:45 am]

BILLING CODE 6820-34-P